DEPARTMENT OF TRANSPORTATION

Federal Aviation Administration

14 CFR Part 39

[Docket No. 2003-NM-256-AD; Amendment 39-13968; AD 2005-03-12]

RIN 2120-AA64

Airworthiness Directives; Airbus Model A330, A340-200, and A340-300 Series Airplanes

AGENCY: Federal Aviation Administration (FAA), Department of Transportation (DOT).

ACTION: Final rule.

SUMMARY: This amendment adopts a new airworthiness directive (AD), applicable to certain Airbus Model A330, A340-200, and A340-300 series airplanes. This AD requires initial and repetitive inspections of certain frame stiffeners to detect cracking. If any cracking is found, this AD requires replacement of the stiffener with a new, reinforced stiffener. Replacement of the stiffener constitutes terminating action for certain inspections. This AD also requires a one-time inspection of any new, reinforced stiffener; and repair or replacement of the new, reinforced stiffener if any cracking is found during the one-time inspection. This AD also provides for an optional terminating action for certain requirements of this AD. The actions specified by this AD are intended to prevent fatigue failure of certain frame stiffener fittings, which could result in reduced structural integrity of the airplane. This action is intended to address the identified unsafe condition.

DATES: Effective March 21, 2005.

The incorporation by reference of certain publications listed in the regulations is approved by the Director of the Federal Register as of March 21, 2005.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at the NARA, call (202) 741-6030, or go to http://www.archives.gov/federal_register/code_of_federal_regulations/ibr_locations.html.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) to include an airworthiness directive (AD) that is applicable to certain Airbus Model A330, A340-200, and A340-300 series airplanes, was published as a supplemental notice of proposed rulemaking (NPRM) in the Federal Register on November 22, 2004 (69 FR 67869). That supplemental NPRM proposed to require initial and repetitive inspections of certain frame stiffeners to detect cracking. If any cracking is found, that supplemental NPRM proposed to require replacement of the stiffener with a new, reinforced stiffener. Replacement of the stiffener would constitute terminating action for certain inspections. That supplemental NPRM also proposed to require a one-time inspection of any new, reinforced stiffener; and repair or replacement of the new, reinforced stiffener if any cracking is found during the one-time inspection. That supplemental NPRM also provided for an optional terminating action for certain requirements of that supplemental NPRM. In addition, that supplemental NPRM also proposed to reduce the compliance time for the initial inspections of the affected frame stiffeners.

Comments

We provided the public the opportunity to participate in the development of this AD. No comments have been submitted on the supplemental NPRM or on the determination of the cost to the public.

Conclusion

We have carefully reviewed the available data and determined that air safety and the public interest require adopting the AD as proposed in the supplemental NPRM.

Cost Impact

We estimate that 20 Model A330 airplanes of U.S. registry will be affected by this AD, that it will take approximately 4 work hours per airplane to accomplish the required inspection, and that the average labor rate is $65 per work hour. Based on these figures, the cost impact of the AD on U.S. operators is estimated to be $5,200, or $260 per airplane, per inspection cycle.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

If an operator chooses to do the optional terminating action rather than continue the repetitive inspections, it will take about 74 work hours per airplane to accomplish the installations, at an average labor rate of $65 per work hour. Required parts will cost about $7,860 per airplane. Based on these figures, we estimate the cost of this optional terminating action to be $12,670 per airplane.

Currently, there are no affected Model A340-200 or A340-300 series airplanes on the U.S. Register. However, if an affected airplane is imported and placed on the U.S. Register in the future, it will take approximately 4 work hours to accomplish the required inspection, at an average labor rate of $65 per work hour. Based on these figures, we estimate the cost of this AD to be $260 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-NM-03-12 Airbus: Amendment 39-13968. Docket 2003-NM-256-AD.

Applicability: Model A330 series airplanes; and Model A340-200 and A340-300 series airplanes; certificated in any category; except those on which Airbus Modification 49694 has been installed.

Compliance: Required as indicated, unless accomplished previously.

To prevent fatigue failure of certain frame stiffener fittings, which could result in reduced structural integrity of the airplane, accomplish the following:

Initial and Repetitive Inspections

(a) Prior to the accumulation of 13,000 total flight cycles or within 6 months after the effective date of this AD, whichever occurs later: Conduct a high-frequency eddy current (HFEC) inspection for cracking of the FR12A stiffener fitting in accordance with the Accomplishment Instructions of Airbus Service Bulletin A330-53-3135, Revision 01, dated July 7, 2003 (for Model A330 series airplanes); or Airbus Service Bulletin A340-53-4141, Revision 02, dated August 13, 2004 (for Model A340-200 and A340-300 series airplanes); as applicable. Repeat the inspection at intervals not to exceed 10,000 flight cycles until the replacement required by paragraph (b) of this AD is accomplished; or until the optional terminating action in paragraph (d) of this AD is accomplished. The actions in paragraphs (b) and (d) of this AD constitute terminating action for the repetitive inspections only for the side on which the actions are taken.

Replacement

(b) If any cracking is detected during any inspection required by paragraph (a) of this AD: Before further flight, replace the affected FR12A stiffener with a new reinforced FR12A stiffener in accordance with the Accomplishment Instructions of Airbus Service Bulletin A330-53-3135, Revision 01, dated July 7, 2003; or Airbus Service Bulletin A340-53-4141, Revision 02, dated August 13, 2004; as applicable. Replacement of the stiffener constitutes terminating action for the repetitive inspections required by paragraph (a) of this AD, only for the side on which the replacement is made.

Follow-On Inspection

(c) For airplanes on which a new, reinforced stiffener is installed in accordance with paragraph (b) of this AD: Within 14,600 flight cycles following the installation, perform an HFEC inspection of the FR12A stiffener fitting for cracking, in accordance with the Accomplishment Instructions of Airbus Service Bulletin A330-53-3135, Revision 01, dated July 7, 2003; or Airbus Service Bulletin A340-53-4141, Revision 02, dated August 13, 2004; as applicable. If any cracking is detected, before further flight, repair or replace the new reinforced stiffener with a new stiffener in a manner approved by either the Manager, International Branch, ANM-116, FAA; or the Direction Générale de l'Aviation Civile (or its delegated agent).

Optional Terminating Action

(d) Replacement of the FR12A stiffeners with new, reinforced stiffeners; installation of new reinforced junction fittings between FR12A/FR13 and FR13/FR13A at the stringer 26 level; and installation of a new shear web that joins the fitting to the cabin floor track; in accordance with the Accomplishment Instructions of Airbus Service Bulletin A330-53-3130, Revision 01, dated October 10, 2003; or Airbus Service Bulletin A340-53-4137, Revision 01, dated October 10, 2003; as applicable; constitutes terminating action for the inspection requirements of paragraphs (a) and (c) of this AD, only for the side on which the replacement and installations are made.

Actions Accomplished per Previous Issues of Service Bulletins

(e) Actions accomplished before the effective date of this AD in accordance with the Accomplishment Instructions of Airbus Service Bulletins A330-53-3130, dated May 26, 2003; A330-53-3135, dated May 26, 2003; A340-53-4137, dated May 26, 2003; A340-53-4141, dated May 26, 2003; or A340-53-4141, Revision 01, dated July 7, 2003; are considered acceptable for compliance only with the following requirements of this AD: The HFEC inspections required by paragraph (a) of this AD, the replacement required by paragraph (b) of this AD, and the actions in paragraph (d) of this AD.

No Reporting Requirements

(f) Although the Accomplishment Instructions of Airbus Service Bulletin A330-53-3135, Revision 01, dated July 7, 2003; and Airbus Service Bulletin A340-53-4141, Revision 02, dated August 13, 2004; describe procedures for submitting certain information to the manufacturer, this AD does not require those actions.

Alternative Methods of Compliance

(g) In accordance with 14 CFR 39.19, the Manager, International Branch, ANM-116, Transport Airplane Directorate, FAA, is authorized to approve alternative methods of compliance for this AD.

Incorporation by Reference

(h) Unless otherwise specified in this AD, the actions must be done in accordance with the service information listed in Table 1 of this AD, as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at the NARA, call (202) 741-6030, or go to http://www.archives.gov/federal_register/code_of_federal_regulations/ibr_locations.html.

Table 1.—Material Incorporated by Reference
Airbus Service Bulletin | Revision level | Date
A330-53-3130 | 01 | October 10, 2003.
A330-53-3135 | 01 | July 7, 2003.
A340-53-4137 | 01 | October 10, 2003.
A340-53-4141 | 02 | August 13, 2004.

Note 1: The subject of this AD is addressed in French airworthiness directives 2003-205(B), dated May 28, 2003; and 2003-206(B), dated May 28, 2003.

Effective Date

(i) This amendment becomes effective on March 21, 2005.

Issued in Renton, Washington, on January 31, 2005.
Kalene C. Yanamura,
Acting Manager, Transport Airplane Directorate, Aircraft Certification Service.

[FR Doc. 05-2579 Filed 2-11-05; 8:45 am]

BILLING CODE 4910-13-P